NATIONAL COUNCIL ON DISABILITY

Sunshine Act Meetings

TIME AND DATES: The Members of the National Council on Disability (NCD) will hold a quarterly meeting on Tuesday, October 23, 2018, 9:00 a.m.-5:00 p.m., Central Time, in Jackson, MS.

PLACE: This meeting will occur in Jackson, Mississippi at the Hilton Garden Inn Jackson/Downtown, Triple C's: Club, Crown, Coronet, 2nd Floor, 235 W Capitol Street, Jackson, MS 39201. Interested parties may join the meeting in person at the meeting location or may join by phone in a listening-only capacity (other than the period allotted for public comment noted below) using the following call-in information: Teleconference number: 1-800-667-5617; Conference ID: 6973399; Conference Title: NCD Meeting; Host Name: Neil Romano.

MATTERS TO BE CONSIDERED: The Council will receive agency updates on policy projects, finance, governance, and other business. Following agency updates, the Council will receive a presentation on 14(c) of the Fair Labor Standards Act before lunch. Following lunch, the Council will receive a presentation on its latest report, “New Deal to Real Deal: Joining the Industries of the Future,” including a consumer panel to discuss it. Lunch will follow that panel. Following lunch, the Council will receive a series of presentations from a bioethics and disability panel on the topics of genetic testing and gene editing, organ transplant policy, the use of quality adjust life years to limit healthcare, and physician-assisted suicide. Following a brief break, the Council will next receive a presentation regarding involuntary institutionalization as a result of disasters. The meeting will then include a time for public comment on NCD's bioethics topics, before concluding with a brief period for any unfinished business.

AGENDA: The times provided below are approximations for when each agenda item is anticipated to be discussed (all times Central):

Tuesday, October 23

9:00-9:15 a.m.—Welcome and introductions

9:15-9:45 a.m.—Executive reports

9:45-11:45 a.m.—“From the New Deal to the Real Deal: Joining the Industries of the Future” national disability employment policy and consumer panel

11:45 a.m.-1:15 p.m.—LUNCH BREAK

1:15-3:15 p.m.—Bioethics and disability policy panel

3:15-3:30 p.m.—BREAK

3:30-4:15 p.m.—Involuntary institutionalization as a result of disasters policy panel

4:15-4:45 p.m.—Town hall to receive comments about bioethics and disability (The five areas NCD is conducting research on include: Organ transplants; medical futility; Quality Adjusted Life Years; physician assisted suicide; and genetic testing.)

4:45-5:00 p.m.—Unfinished business

5:00 p.m.—Adjourn

PUBLIC COMMENT: To better facilitate NCD's public comment, any individual interested in providing public comment is asked to register his or her intent to provide comment in advance by sending an email to PublicComment@ncd.gov with the subject line “Public Comment” with your name, organization, state, and topic of comment included in the body of your email. Full-length written public comments may also be sent to that email address. All emails to register for public comment at the quarterly meeting must be received by Monday, October 22, 2018. Priority will be given to those individuals who are in-person to provide their comments during the public comment period. Those commenters on the phone will be called on per the list of those registered via email. Due to time constraints, NCD asks all commenters to limit their comments to three minutes. Comments received at the October quarterly meeting will be limited to those regarding NCD's bioethics and disability research areas—organ transplants; medical futility; Quality Adjusted Life Years; physician assisted suicide; and genetic testing.

CONTACT PERSON: Anne Sommers, NCD, 1331 F Street NW, Suite 850, Washington, DC 20004; 202-272-2004 (V), 202-272-2074 (TTY).

ACCOMMODATIONS: A CART streamtext link has been arranged for this meeting. The web link to access CART on Tuesday, October 23, 2018 is: http://www.streamtext.net/player?event=NCD-QUARTERLY.

Those who plan to attend the meeting in-person and require accommodations should notify NCD as soon as possible to allow time to make arrangements. To help reduce exposure to fragrances for those with multiple chemical sensitivities, NCD requests that all those attending the meeting in person refrain from wearing scented personal care products such as perfumes, hairsprays, and deodorants.

Dated: October 11, 2018.
Sharon M. Lisa Grubb,
Executive Director.

[FR Doc. 2018-22511 Filed 10-11-18; 4:15 pm]

BILLING CODE 8421-03-P